POSTAL REGULATORY COMMISSION

[Docket No. R2017-1; Order No. 3648]

Market Dominant Price Adjustment

AGENCY: Postal Regulatory Commission.

ACTION: Notice.

SUMMARY: The Commission is noticing a recently filed Postal Service notice revising one of its inflation-based rate adjustments affecting market dominant products. The adjustment and other changes are scheduled to take effect January 22, 2017. This notice informs the public of the filing, invites public comment, and takes other administrative steps.

DATES: Comments are due: December 14, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction and Overview

II. Procedural Schedule

III. Administrative Actions

IV. Ordering Paragraphs

I. Introduction and Overview

On December 6, 2016, the Postal Service filed a notice ¹ revising its Notice of Market Dominant Price adjustment,² previously filed in this docket. The Notice of Revision reduces the Postal Service's proposed price increase for Certified Mail with Restricted Delivery and/or Adult Signature from $8.35 to $8.30. Notice of Revision at 1. The Notice of Revision does not alter the proposed implementation date for the increased Special Services prices of January 22, 2017. Notice of Revision at 1.

¹ Notice of Revision to United States Postal Service Notice of Market-Dominant Price Adjustment, Attachment A, December 6, 2016 (Notice of Revision).

² United States Postal Service Notice of Market Dominant Price Adjustment, October 12, 2016. See also Notice of Revisions to United States Postal Service Notice of Market-Dominant Price Adjustment, Attachment A, and Attachment B—Errata, October 28, 2016; Notice of Revisions to United States Postal Service Notice of Market-Dominant Price Adjustment, Attachment A, and Attachment B—Errata, November 8, 2016.

Contents of filing. The Postal Service's filing consists of the Notice of Revision, which explains the reasons for the change, updated proposed Mail Classification Schedule language, and revised financial workpapers.³

³ See Notice of the United States Postal Service of Filing of Revised Version of USPS-LR-R2017-1/5, December 6, 2016.

Planned price adjustments. The Postal Service plans to reduce its proposed price increase for Certified Mail with Restricted Delivery and/or Adult Signature from $8.35 to $8.30. Notice of Revision at 1. The Postal Service states that technical issues effectively prevent it from pursuing the original proposed increase. Id. at 1-2. The Postal Service has weighed the cost and revenue impacts of potential solutions and concluded that proceeding with the revised price is preferable to delay or staggered implementation of its proposed Special Services price increases. Id. at 2.

As a result of this revision, the Postal Service's proposed price change for the Special Services class decreases from 2.515 percent to 2.514 percent. If approved, the Postal Service's unused price adjustment authority for the Special Services class would increase by a corresponding 0.001 percent.

II. Procedural Schedule

The Commission acknowledges the Postal Service's interest in the expeditious resolution of this matter and its concerns regarding the limited time remaining prior to the Postal Service's proposed implementation date. For this reason, the Commission will endeavor to issue a final order resolving the proposed Special Services price adjustments within seven days of the conclusion of the comment period provided below.

III. Administrative Actions

The Commission hereby provides public notice of the Postal Service's filing. The Commission invites comments from interested persons on whether the Notice of Revision is consistent with 39 U.S.C. 3622 and the requirements of 39 CFR part 3010. Comments are due no later than December 14, 2016.

The Commission has posted the public portions of the Postal Service's filing on its Web site at http://www.prc.gov. The Commission will post revisions to the filing (if any) or other documents the Postal Service submits in this docket on its Web site, along with related Commission documents, comments, or other submissions, unless such filings are the subject of an application for non-public treatment. The Commission's policy on access to documents filed under seal appears in 39 CFR part 3007.

IV. Ordering Paragraphs

It is ordered:

1. Comments on the revised proposed price adjustment are due no later than December 14, 2016.

2. The Commission directs the Secretary of the Commission to arrange for prompt publication of this notice in the Federal Register.

By the Commission.
Stacy L. Ruble,
Secretary.

[FR Doc. 2016-29782 Filed 12-12-16; 8:45 am]

BILLING CODE 7710-FW-P